DEPARTMENT OF TRANSPORTATION

Federal Aviation Administration

Proposed Advisory Circular on Internet Communications of Aviation Weather and NOTAMs

AGENCY: Federal Aviation Administration, DOT.

ACTION: Request for comments on proposed advisory circular.

SUMMARY: The Department of Transportation, in accordance with 49 CFR 1.47, delegated responsibility for aviation safety oversight to the Federal Aviation Administration (FAA). The FAA has proposed the development of Advisory Circular (AC) 00-xx, Internet Communications of Aviation Weather and NOTAMs, that describes the process for any person or organization providing access to aviation weather and Notices to Airmen (NOTAMs) via the Public Internet to become and remain a Qualified Internet Communications Provider (QICP).

DATES: Comments must be received on or before February 13, 2002.

ADDRESSES: Written comments are invited on all aspects of the proposed AC. Commenters must identify draft AC 00-xx, Internet Communications of Aviation Weather and NOTAMs. Send or deliver all comments on the proposed AC to the following location: Federal Aviation Administration, Aerospace Weather Policy Staff, ARS-100, 800 Independence Ave., SW., Washington, DC 20591.

FOR FURTHER INFORMATION CONTACT: Mr. Steven Albersheim, FAA, Aerospace Weather Policy Staff, ARS-100, 800 Independence Ave., SW., Washington, DC 20591, 202-385-7704, Steven.Albersheim@faa.gov.

SUPPLEMENTARY INFORMATION: Aviation weather information is available on the Internet from a variety of government and vendor sources with minimal quality control. Users of the National Airspace System, dispatchers, pilots and air traffic controllers/specialists have expressed interest in the ability to utilize the Internet to retrieve aviation weather text and graphic products for operational decision-making. The FAA proposes to establish the process in an AC for providers who disseminate aviation weather data and NOTAMs via the Internet to become QICPs for the purpose of ensuring the reliability, accessibility and security of the data and encouraging the identification of the approval status of products. The proposed AC will provide information on the QICP process and recommended practices as well as the procedures for a provider to maintain QICP status. The FAA Aerospace Weather Standards Staff (ARS-200) proposes to maintain a current list of all QICPs on a designated Web page accessible by the general public.

Issued in Washington, DC, on January 8, 2002.
David Whatley,
Director, Aerospace Weather Policy & Standards, Air Traffic System Requirements Service.

BILLING CODE 4910-13-P

[FR Doc. 02-861 Filed 1-11-02; 8:45 am]

BILLING CODE 4910-13-C